DEPARTMENT OF AGRICULTURE

Farm Service Agency

Income Assistance for Grape Vine Losses Due to Pierce's Disease

AGENCY: Farm Service Agency, USDA.

ACTION: Notice of intent to make monies available to the State of California for grower losses due to Pierce's disease.

SUMMARY: Section 203 of the Agricultural Risk Protection Act of 2000, Pub. Law 106-224, addresses losses caused to growers for losses due to Pierce's disease. As set out in this notice, it appears specifically that it was the intent of Congress that $7 million be made available to the State of California to cover such losses in that State. In this notice, it is proposed that the payment be made to the State should the State agree to undertake the disposition of the funds to growers under such standards as the State might develop.

FOR FURTHER INFORMATION CONTACT: Sharon Biastock, telephone (202) 720-6336.

DATES: Comments on this notice must be received by September 17, 2001 to be assured of consideration.

Submit written comments to:

ADDRESSES: Sharon Biastock, Production, Emergencies and Compliance Division, Farm Service Agency (FSA), STOP 0517, U.S. Department of Agriculture, 1400 Independence Avenue SW., Washington, DC 20250-0540, telephone (202) 720-6336; e-mail address: sharon_biastock@wdc.fsa.usda.gov.

SUPPLEMENTARY INFORMATION: Section 203(e) of the Agricultural Risk Protection Act of 2000 (ARPA), Public Law No. 106-224, provided in a subsection entitled “Grower Compensation” that of amounts made available under section 261(a)(2) of that Act $25,000,000 should be used by the Secretary to compensate growers for losses on several specifically-named plant diseases. No particular breakdown of whom should be paid was set out in the statute, nor was a particular area identified for payments or a particular disposition specified in the statute for dividing up the funds among the eligible causes of loss. However, among the covered causes of losses covered in section 203(e) was that covered in section 203(e)(1)(C), which specified that monies could be used to pay growers for losses due to Pierce's disease, a disease that can damage vines. In this respect, the Managers report that accompanied ARPA specified that: “With respect to Pierce's disease, the Managers expect the Secretary to utilize at least $7,140,000 in a manner that enables the California Department of Food and Agriculture to utilize such funding for state and local efforts to contain and control Pierce's disease, which is devastating agricultural areas in southern California, and is moving northward. Funds are needed immediately to monitor for the earliest signs of the diseases and to inspect nursery stock prior to shipment. The disease is spread by a vigorous and difficult to control insect called the glassy-winged sharpshooter. This insect is a major problem, but the elimination of the insect would not eliminate the disease.” Some ambiguity exists in the Manager's Report because the Manager's Report referred to monies being expended for eradication efforts and the text of the law referred to payments to growers for their losses. Also of note is section 261(a)(2) of ARPA. That subsection specified that funding will be available for section 203, but it was further specified in section 262 of ARPA that funds made available under section 261(a)(2) must be obligated and expended in fiscal year 2001, which ends September 30, 2001. Further, section 804 of the Agriculture, Rural Development, Food and Drug Administration, and Related Agencies Appropriations Act, 2001 (2001 Appropriations Act) provides that the Secretary could use the funds of the Commodity Credit Corporation (CCC) to administer and make payment for losses not otherwise compensated to compensate growers for losses due to Pierce's disease. CCC does plan to provide for coverage of such losses generally in the crop loss program being implemented under sections 804 and 815 of the 2001 Appropriations Act and will do so for growers in all affected areas. In using the discretionary authority under section 804 CCC has planned to treat Pierce's disease in the same manner as other losses covered by section 815, which incorporates by reference to previous disaster programs provisions for a payment limitation and a gross income test for eligibility.

In order to assure that any funds for these losses are used to compensate grape growers for vine losses it is proposed in this notice that, as set forth in the Manager's Report accompanying this provision, that $7,140,000 be made available to the State of California for losses resulting from Pierce's disease infection spread by the Glassy-wing sharpshooter. These funds would be made available directly to the State and the State would decide how it would distribute funds among affected growers. All comments favorable or unfavorable to this disposition should be addressed to the person above by the indicated date.

By statute, the funds under section 203 must be expended by September 30, 2001. Accordingly, it does not appear feasible to do anything but make the payment to the State of California. The State would be allowed to deduct from the sums made available to growers those sums needed to administer the program. If the State was unwilling to take on the burden of disposing of the funds then the fund would go unexpended. As provided under section 804 of the 2001 Appropriations Act, any payments received by producers as a result of disbursements under section 203 of ARPA (that is, any disbursement resulting from the payment contemplated by this notice) would count against that person's eligibility under the program administered by CCC under section 804.

Signed at Washington, DC, on August 13, 2001.
James R. Little,
Acting Administrator, Farm Service Agency.

[FR Doc. 01-20843 Filed 8-15-01; 10:02 am]

BILLING CODE 3410-05-P